DEPARTMENT OF TRANSPORTATION

National Highway Traffic Safety Administration

49 CFR Part 571

[Docket No. NHTSA-2007-27662]

Federal Motor Vehicle Safety Standards; Electronic Stability Control Systems; Correction

AGENCY: National Highway Traffic Safety Administration (NHTSA), Department of Transportation (DOT).

ACTION: Correcting amendments.

SUMMARY: In April 2007, the agency published a final rule establishing a new Federal motor vehicle safety standard on electronic stability control (ESC) systems for light vehicles. As part of that rulemaking, the final rule notice stated that NHTSA had decided to defer the standard's requirements related to the ESC telltales and controls until the end of the phase-in period (i.e., until September 1, 2011). Accordingly, most of the paragraphs containing ESC telltale and control requirements were prefaced with the phrase “as of September 1, 2011.” However, that phrase was inadvertently omitted from two of the paragraphs setting forth ESC telltale and control requirements. These amendments correct this administrative error by adding the phrase “as of September 1, 2011” to those paragraphs.

DATES: This rule is effective June 22, 2007.

FOR FURTHER INFORMATION CONTACT: Mr. Patrick Boyd, Office of Crash Avoidance Standards, National Highway Traffic Safety Administration, 1200 New Jersey Avenue, SE., Washington, DC 20590. Telephone: (202) 366-6346. Fax: (202) 366-7002.

SUPPLEMENTARY INFORMATION: Crash data studies of existing vehicles with electronic stability control demonstrate that such systems reduce single-vehicle crashes of passenger cars by 34 percent and single-vehicle crashes of sport utility vehicles (SUVs) by 59 percent, with a much greater percentage reduction of rollover crashes. NHTSA estimates that ESC has the potential to prevent 71 percent of the passenger car rollovers and 84 percent of the SUV rollovers that would otherwise occur in single-vehicle crashes.

On April 6, 2007, NHTSA published a final rule establishing a new Federal motor vehicle safety standard (FMVSS) No. 126, Electronic Stability Control Systems, that set forth requirements for ESC systems for new light vehicles (72 FR 17236).¹ FMVSS No. 126 contains performance requirements that include both definitional and dynamic testing elements, in order to ensure that ESC systems can provide the level of yaw (directional) stability (with interventions to limit oversteer and understeer) associated with the high level of safety benefits observed in crash data studies of ESC-equipped vehicles, and it also contains requirements for a standardized set of ESC telltales and controls. Most of the ESC-equipped vehicles currently being manufactured can satisfy the new standard's requirements for yaw stability performance (i.e., the requirements which have the potential to prevent crashes), but none use the exact set of telltales and controls that the standard requires.

¹ Docket No. NHTSA-2007-27662-1.

In order to provide the U.S. fleet with the substantial safety benefits of ESC as soon as possible, NHTSA decided to defer the standard's requirements related to the ESC telltales and controls until the end of the phase-in period. In addition, we note that the final rule also accelerated the phase-in schedule beyond the schedule proposed in the September 2006 notice of proposed rulemaking (NPRM).² Specifically, the final rule for FMVSS No. 126 requires the following phase-in schedule for ESC: 55 percent of a vehicle manufacturer's light vehicles manufactured during the period from September 1, 2008 to August 31, 2009 would be required to comply with the standard; 75 percent of those manufactured during the period from September 1, 2009 to August 31, 2010; 95 percent of those manufactured during the period from September 1, 2010 to August 31, 2011, and all light vehicles thereafter. (This compares to the NPRM's proposal for a 30/60/90/all phase-in schedule over the same time periods.) The final rule also noted that some manufacturers will have to depend upon carry-forward credits for vehicles with complying ESC systems manufactured after June 5, 2007 (the effective date of the final rule) in order to meet the accelerated phase-in schedule.

² 71 FR 54712 (Sept. 18, 2006) (Docket No. NHTSA-2006-25801-1).

Thus, given the agency's intention to encourage rapid installation of this life-saving technology, we chose to defer the requirements of the standard regarding telltales and displays. Although the agency perceived certain advantages with standardizing the presentation of ESC controls and displays, it was not practicable to implement those changes in keeping with the accelerated phase-in schedule, which we expected to produce tangible safety benefits. Accordingly, we decided to preface paragraphs S5.3.1, S5.3.2, S5.3.4, S5.4.2, S5.5.2, S5.5.3, and S5.5.6 of Standard No. 126 with the phrase “as of September 1, 2011.” However, that phrase was inadvertently omitted from paragraphs S5.3.3 and S5.4.3, two other provisions (discussed below) containing ESC control and display requirements.

Paragraph S5.3.3 has the effect of requiring separate telltales for ESC malfunction warning and for the warning that ESC has been turned off. The standard also established separate symbols for the two conditions. However, this is not how most current vehicles equipped with ESC are manufactured. Typically, such vehicles today utilize the same telltale to present messages for both ESC malfunction and ESC Off. The inadvertent omission of “as of September 1, 2011” from this paragraph imperils the chances of most manufacturers to comply with the phase-in schedule and, concomitantly, with the agency's safety objectives manifest in the ESC standard.

Paragraph S5.4.3 deals with controls such as that which puts a four-wheel-drive vehicle into the off-road mode by locking the differentials and transfer case. When the differentials are locked, ESC cannot function, and the differential locking control automatically disables ESC to avoid damaging the vehicle. Paragraph S5.4.3 requires the “ESC-Off” telltale to be illuminated in this circumstance. However, vehicles in current production do not have this function, and the carry-forward and phase-in credits for four-wheel-drive vehicles with off-road modes are imperiled by the inadvertent omission of the phrase “as of September 1, 2011” at the end of the section.

Accordingly, this notice corrects the inadvertent omissions of the phrase “as of September 1, 2011” in paragraphs S5.3.3 and S5.4.3 resulting from administrative error.

This amendment is a technical one, and it does not impose or relax any substantive requirements or burdens on manufacturers. Therefore, NHTSA finds for good cause that any notice and opportunity for comment on these correcting amendments are not necessary.

List of Subjects in 49 CFR Part 571

Motor vehicle safety, Reporting and recordkeeping requirements, Tires.

Accordingly, 49 CFR part 571 is corrected by making the following correcting amendments:

PART 571—FEDERAL MOTOR VEHICLE SAFETY STANDARDS

1. The authority citation for part 571 continues to read as follows:

Authority: 49 U.S.C. 322, 30111, 30115, 30117, and 30166; delegation of authority at 49 CFR 1.50.

2. Paragraphs S5.3.3 and S5.4.3 of § 571.126 are revised to read as follows:

§ 571.126 Standard No. 126; Electronic stability control systems.

* * * * *

S5.3 ESC Malfunction * * *

* * * * *

S5.3.3 As of September 1, 2011, except as provided in paragraph S5.3.4, the ESC malfunction telltale must illuminate only when a malfunction(s) exists and must remain continuously illuminated under the conditions specified in S5.3 for as long as the malfunction(s) exists, whenever the ignition locking system is in the “On” (“Run”) position; and

* * * * *

S5.4 ESC Off and Other System Controls * * *

* * * * *

S5.4.3 A control for another system that has the ancillary effect of placing the ESC system in a mode in which it no longer satisfies the performance requirements of S5.2.1, S5.2.2, and S5.2.3 need not be identified by the “ESC Off” identifiers in Table 1 of Standard No. 101 (49 CFR 571.101), but the ESC status must be identified by the “ESC Off” telltale in accordance with S5.5, as of September 1, 2011.

* * * * *

Issued: June 15, 2007.
Stephen R. Kratzke,
Associate Administrator for Rulemaking.

[FR Doc. E7-11965 Filed 6-21-07; 8:45 am]

BILLING CODE 4910-59-P